DEPARTMENT OF DEFENSE

Department of the Navy

Meeting of the United States Naval Academy Board of Visitors; Cancellation

AGENCY: Department of the Navy, DoD.

ACTION: Notice of open meeting; cancellation.

SUMMARY: On Monday, February 3, 2020, the Department of the Navy published a notice announcing a meeting of the United States Naval Academy Board of Visitors that was to take place on Monday, March 23, 2020. Due to ongoing COVID-19 concerns, the Department of the Navy is cancelling this meeting.

DATES: The open session of the meeting to be held on March 23, 2020, from 9 a.m. to 11 a.m., and the executive session to be held from 11 a.m. to noon (12 p.m.) have been cancelled.

FOR FURTHER INFORMATION CONTACT: Commander Lawrence Heyworth IV, USN, Alternate Designated Federal Officer, 410-293-1503, heyworth@usna.edu (Email). Mailing address is U.S. Naval Academy, 121 Blake Road, Annapolis, MD 21402.

SUPPLEMENTARY INFORMATION: The meeting notice published in the Federal Register on Monday, February 3, 2020 (85 FR 5946).

Due to circumstances beyond the control of the Department of Defense, the Designated Federal Officer for U.S. Naval Academy Board of Visitors was unable to provide public notification required by 41 CFR 102-3.150(a) concerning the cancellation of the previously noticed meeting for March 23, 2020. Accordingly, the Advisory Committee Management Officer for the Department of Defense, pursuant to 41 CFR 102-3.150(b), waives the 15-calendar day notification requirement.

Dated: March 18, 2020.
K.K. Ramsey,
Office of the Judge Advocate General, U.S. Navy, Federal Register Liaison Officer.

[FR Doc. 2020-06318 Filed 3-23-20; 11:15 am]

BILLING CODE 3810-FF-P